FEDERAL COMMUNICATIONS COMMISSION

[Report No. 2894]

PETITION FOR RECONSIDERATION OF ACTION IN RULEMAKING PROCEEDING

Aug 04, 2009.

SUMMARY: Petitions for Reconsideration have been filed in the Commission's Rulemaking proceeding listed in this Public Notice and published pursuant to 47 CFR Section 1.429(e). The full text of these documents is available for viewing and copying in Room CY-B402, 445 12th Street, SW, Washington, DC or may be purchased from the Commission's copy contractor, Best Copy and Printing, Inc. (BCPI) (1-800-378-3160). Oppositions to these petitions must be filed by September 2, 2009. See Section 1.4(b)(1) of the Commission's rules (47 CFR 1.4(b)(1)). Replies to an opposition must be filed within 10 days after the time for filing oppositions has expired.

Subject: In The Matter of Section 73.202(b), Table of Allotments, FM Broadcast Stations (Grants and Church Rock, New Mexico) (Docket No. MB-05-263)

NUMBER OF PETITIONS FILED: 1

Federal Communications Commission
Marlene H. Dortch,
Secretary.

[FR Doc. E9-19668 Filed 8-17-09; 8:45 am]

BILLING CODE 6712-01-S